DEPARTMENT OF THE TREASURY

United States Mint

Price for the American Eagle Silver Proof and Uncirculated Coins and the America the Beautiful Five Ounce Silver Uncirculated Coins™

AGENCY: United States Mint, Department of the Treasury.

ACTION: Notice.

SUMMARY: Because of the recent increase in the market price of silver, the United States Mint is raising the price of its American Eagle Silver Proof and Uncirculated Coins and the America the Beautiful Five Ounce Silver Uncirculated Coins™ as follows:

Coin | New price
2012 American Eagle Silver Proof | $59.95
2012 American Eagle Silver Uncirculated | 50.95
2011 American Eagle Silver Uncirculated | 50.95
2011 Gettysburg National Military Park | 229.95
2011 Glacier National Park | 229.95
2011 Olympic National Park | 229.95
2011 Vicksburg National Military Park | 229.95
2011 Chickasaw National Recreation Area | 229.95
2012 El Yunque National Forest | 229.95
2012 Chaco Culture National Historical Park | 229.95
2012 Acadia National Park | 229.95
2012 Hawai‘i Volcanoes National Park | 229.95

FOR FURTHER INFORMATION CONTACT: B.B. Craig, Associate Director for Sales and Marketing; United States Mint; 801 9th Street NW., Washington, DC 20220; or call 202-354-7500.

Authority: 31 U.S.C. 5111, 5112 & 9701.

Dated: October 2, 2012.
Richard A. Peterson,
Acting Director, United States Mint.

[FR Doc. 2012-24778 Filed 10-9-12; 8:45 am]

BILLING CODE P